DEPARTMENT OF TRANSPORTATION

Federal Transit Administration

American Recovery and Reinvestment Act Public Transportation on Indian Reservations Program Project Selections and Tribal Transit Program Fiscal Year (FY) 2009 Project Selections

AGENCY: Federal Transit Administration (FTA), DOT.

ACTION: Notice of award.

SUMMARY: The Federal Transit Administration (FTA) announces the selection of projects to be funded under the American Recovery and Reinvestment Act (ARRA) for the Public Transportation on Indian Reservations Program (Tribal Transit Program (TTP)), and Fiscal Year (FY) 2009 appropriations for the Tribal Transit Program, a program authorized by the Safe, Accountable, Flexible, Efficient Transportation Equity Act: A Legacy for Users (SAFETEA-LU), Section 3013(c).

FOR FURTHER INFORMATION CONTACT: Contact the appropriate FTA regional Tribal Liaison (Appendix), for application-specific information and issues. For general program information, contact Lorna R. Wilson, Office of Transit Programs, at (202) 366-2053, e-mail: Lorna.Wilson@dot.gov. A TDD is available at 1-800-877-8339 (TDD/FIRS).

SUPPLEMENTARY INFORMATION: The Tribal Transit Program (TTP) established by Section 3013 SAFETEA-LU, Public Law 109-49 (August 15, 2005), under 49 U.S.C. 5311(c) makes funds available to federally recognized Indian tribes or Alaska Native villages, groups, or communities as identified by the Bureau of Indian Affairs (BIA) in the U.S. Department of the Interior for public transportation capital projects, operating costs and planning activities that are eligible costs under the Nonurbanized Area Formula Program (Section 5311). The ARRA TTP funding may be used only for capital expenditures.

Awards: A total of $17 million was made available for the TTP program under ARRA. A total of 71 applicants requested $54 million for capital projects. FTA made project selections through a competitive process based on each applicant's responsiveness to the program evaluation criteria outlined in FTA's March 23, 2009 Federal Register Notice. A total of 39 of the highest rated projects have been selected for funding. The 39 successful applicants are listed in Table 1 of this Notice.

A total of $15 million was made available for FY 2009 Tribal Transit program. A total of 81 applicants requested $28 million for new transit services, enhancement or expansion of existing transit services, and planning studies including operational planning. FTA made project selections through a competitive process based on each applicant's responsiveness to the program evaluation criteria outlined in FTA's April 29, 2009, Federal Register Notice. FTA also took into consideration the current status of previously funded TTP grantees. Because of the high demand, many applicants selected for funding will receive less funding than they requested, which enables FTA to support an increased number of meritorious applications. A total of 63 applications have been selected for funding. The projects provide $15 million to 61 tribes, for transit planning studies and/or operational planning ($250,000); startup projects for new transit service ($1.5 million); and for enhancements or expansion of existing transit services ($13.25 million).

Special Requirments Under ARRA Tribal Transit Program: ARRA funding must be obligated in a grant by June 30, 2010. FTA reserves the right to redistribute funds not obligated by the June 30, 2010 date to other successful applicants that have obligated their ARRA TTP funds. Any tribe receiving ARRA funds must also abide by the special reporting requirements under ARRA which includes:

Section 1511: Certifications.

Section 1512: Reports on Use of Funds.

Section 1512(h): Registration.

Section 1201(c)(2): Periodic Reports.

Each of the 102 awardees, as well as the applicants not selected for funding, will receive a letter explaining the funding decision. Following publication of this Notice, an FTA regional tribal liaison will contact each applicant selected for funding to discuss each tribe's specific technical assistance needs. FTA will also host a special ARRA reporting webinar shortly after the publication of this Notice. In the event the contact information provided by your tribe in the application has changed, please contact your tribal liaison with the current information in order to expedite the grant award process.

Issued in Washington, DC, this 15th day of December 2009.
Peter M. Rogoff,
Administrator.

Appendix—FTA Regional Offices and Tribal Transit Liaisons

Region I—Massachusetts, Rhode Island, Connecticut, New Hampshire, Vermont and Maine—Richard H. Doyle, FTA Regional Administrator, Volpe National Transportation Systems Center, Kendall Square, 55 Broadway, Suite 920, Cambridge, MA 02142-1093, Phone: (617) 494-2055, Fax: (617) 494-2865, Regional Tribal Liaison(s): Laurie Ansaldi and Judi Molloy.

Region II—New York, New Jersey—Brigid Hynes-Cherin, FTA Regional Administrator, One Bowling Green, Room 429, New York, NY 10004-1415, Phone: (212) 668-2170, Fax: (212) 668-2136, Regional Tribal Liaison: Darin Allan.

Region III—Pennsylvania, Maryland, Virginia, West Virginia, Delaware, Washington, DC, Letitia Thompson, FTA Regional Administrator, 1760 Market Street, Suite 500, Philadelphia, PA 19103-4124, Phone: (215) 656-7100, Fax: (215) 656-7260. (NO TRIBES)

Region IV—Georgia, North Carolina, South Carolina, Florida, Mississippi, Tennessee, Kentucky, Alabama, Puerto Rico, Virgin Islands—Yvette G. Taylor, FTA Regional Administrator, 230 Peachtree St., NW., Suite 800, Atlanta, GA 30303, Tel.: 404-865-5600, Fax: 404-865-5600, Regional Tribal Liaisons: Jamie Pfister and Tajsha LaShore.

Region V—Illinois, Indiana, Ohio, Wisconsin, Minnesota, Michigan—Marisol R. Simon, FTA Regional Administrator, 200 West Adams Street, Suite 320, Chicago, IL 60606-5232, Phone: (312) 353-2789, Fax: (312) 886-0351, Regional Tribal Liaisons: Joyce Taylor and Angelica Salgado.

Region VI—Texas, New Mexico, Louisiana, Arkansas, Oklahoma—Robert Patrick, FTA Regional Administrator, 819 Taylor Street, Room 8A36, Ft. Worth, TX 76102, Phone: (817) 978-0550, Fax: (817) 978-0575, Regional Tribal Liaison: Lynn Hayes.

Region VII—Iowa, Nebraska, Kansas, Missouri—Mokhtee Ahmad, FTA Regional Administrator, 901 Locust Street, Suite 404, Kansas City, MO 64106, Phone: (816) 329-3920, Fax: (816) 329-3921, Regional Tribal Liaisons: Joni Roeseler and Cathy Monroe.

Region VIII—Colorado, North Dakota, South Dakota, Montana, Wyoming, Utah—Terry Rosapep, FTA Regional Administrator, 12300 West Dakota Avenue, Suite 310, Lakewood, CO 80228-2583, Phone: (720) 963-3300, Fax: (720) 963-3333, Regional Tribal Liaisons: Jennifer Stewart and David Beckhouse.

Region IX—California, Arizona, Nevada, Hawaii, American Samoa, Guam—Leslie Rogers, FTA Regional Administrator, 201 Mission Street, Suite 1650, San Francisco, CA 94105-1926, Phone: (415) 744-3133, Fax: (415) 744-2726, Regional Tribal Liaison: Eric Eidlin.

Region X—Washington, Oregon, Idaho, Alaska—Richard Krochalis, FTA Regional Administrator, Jackson Federal Building, 915 Second Avenue, Suite 3142, Seattle, WA 98174-1002, Phone: (206) 220-7954, Fax: (206) 220-7959, Regional Tribal Liaison: Bill Ramos.

[FR Doc. E9-30197 Filed 12-17-09; 8:45 am]

BILLING CODE P